DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, February 11, 2015, from 8:30 a.m. until 5 p.m. Eastern Time, Thursday, February 12, 2015, from 8:30 a.m. until 5 p.m. Eastern Time, and Friday, February 13, 2015, from 8:30 a.m. until 12 p.m. Eastern Time. All sessions will be open to the public.

DATES: The meeting will be held on Wednesday, February 11, 2015, from 8:30 a.m. until 5 p.m. Eastern Time, Thursday, February 12, 2015, from 8:30 a.m. until 5 p.m. Eastern Time, and Friday, February 13, 2015, from 8:30 a.m. until 12 p.m. Eastern Time.

ADDRESSES: The meeting will take place at the United States Access Board Conference Room, 1331 F Street NW., Suite 800, Washington, DC, 20004.

FOR FURTHER INFORMATION CONTACT: Annie Sokol, Information Technology Laboratory, National Institute of Standards and Technology, 100 Bureau Drive, Stop 8930, Gaithersburg, MD 20899-8930, telephone: (301) 975-2006, or by email at: annie.sokol@nist.gov.

SUPPLEMENTARY INFORMATION: Pursuant to the Federal Advisory Committee Act, as amended, 5 U.S.C. App., notice is hereby given that the Information Security and Privacy Advisory Board (ISPAB) will meet Wednesday, February 11, 2015, from 8:30 a.m. until 5 p.m. Eastern Time, Thursday, February 12, 2015, from 8:30 a.m. until 5 p.m. Eastern Time, and Friday, February 13, 2015, from 8:30 a.m. until 12 p.m. Eastern Time. All sessions will be open to the public. The ISPAB is authorized by 15 U.S.C. 278g-4, as amended, and advises the National Institute of Standards and Technology (NIST), and the Director of the Office of Management and Budget (OMB) on information security and privacy issues pertaining to Federal government information systems, including thorough review of proposed standards and guidelines developed by NIST. Details regarding the ISPAB's activities are available at http://csrc.nist.gov/groups/SMA/ispab/index.html.

The agenda is expected to include the following items:

• Updates on OMB Circular No. A-130 Revised, Management of Federal Information Resources,

• Updates from the U.S. Digital Service Team,

• Discussion on Continuous Monitoring and Continuous Diagnostics and Mitigation (CDM),

• Discussion and Presentation on drones and privacy,

• Updates on NIST Privacy Engineering Objectives and Risk Model Discussion draft,

• Updates on Cybersecurity Framework—Improving Critical Infrastructure Cybersecurity, Executive Order 13636,

• Updates on Legislation, Federal Information Security Management Act,

• Presentation from U.S. Department of Justice Cybersecurity Unit,

• Presentation from National Security Agency (NSA) Privacy Officer,

• Updates from U.S. Chief Technology Officer,

• Updates on NIST Cryptographic Standards and Guidelines Development Process, and

• Updates on NIST Computer Security Division.

Note that agenda items may change without notice. The final agenda will be posted on the Web site indicated above. Seating will be available for the public and media. No registration is required to attend this meeting.

Public Participation: The ISPAB agenda will include a period of time, not to exceed thirty minutes, for oral comments from the public (Friday, February 13, 2015, between 10 a.m. and 10:30 a.m.). Speakers will be selected on a first-come, first-served basis. Each speaker will be limited to five minutes. Questions from the public will not be considered during this period. Members of the public who are interested in speaking are requested to contact Annie Sokol at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Dated: December 23, 2014.
Willie E. May,
Acting Director.

[FR Doc. 2014-30780 Filed 12-31-14; 8:45 am]

BILLING CODE 3510-13-P